FEDERAL COMMUNICATIONS COMMISSION

47 CFR Parts 1, 63, and 64

[IB Docket No. 04-226; FCC 05-91]

Mandatory Electronic Filing for International Telecommunications Services and Other International Filings

AGENCY: Federal Communications Commission.

ACTION: Final rule.

SUMMARY: This document is a summary of the Report and Order adopted by the Commission in this proceeding. The Commission adopted rule changes that eliminate paper filings and require applicants to file electronically all applications and other filings related to international telecommunications services. The Report and Order will further the Commission's goals to increase the efficiency of application processing and to expedite the availability of the application information for public use and inspection.

DATES: Effective August 5, 2005 except for 47 CFR 63.19(d), 63.21(a), 63.21(h), 63.21(i), 63.25(b), 63.25(c), 63.25(e), 63.53(a)(1), 63.53(a)(2), 63.701 introductory text and (j), 64.1001(a), 64.1001(f), 64.1002(c) and 64.1002(e) which contain information requirements that have not yet been approved by the Office of Management and Budget (OMB). The Commission will publish a document in the Federal Register announcing the effective date of those sections. OMB, the general public, and other Federal agencies are invited to comment on the information collection requirements on or before September 6, 2005.

ADDRESSES: In addition to filing comments with the Office of the Secretary, a copy of any comments on the Paperwork Reduction Act information collection(s) contained herein should be submitted to Judith B. Herman, Federal Communications Commission, Room 1-C804, 445 12th Street, SW., Washington, DC 20554, or via the Internet to Judity-B.Herman@fcc.gov.

FOR FURTHER INFORMATION CONTACT: Peggy Reitzel or JoAnn Ekblad, Policy Division, International Bureau, (202) 418-1460. For additional information concerning the Paperwork Reduction Act information collection(s) contained in this document, contact Judith B. Herman at 202-418-0214, or via the Internet at Judith-B.Herman@fcc.gov.

SUPPLEMENTARY INFORMATION: This is a summary of the Commission's Report and Order in IB Docket No. 04-226, FCC No. 05-91, adopted April 29, 2005 and released on May 11, 2005. The full text of this Commission decision is available for inspection and copying during normal business hours in the FCC Reference Center (Room CY-A257). The document is also available for download over the Internet at http://hraunfoss.fcc.gov/edocs_public/attachmatch/FCC-05-91A1.pdf. The complete text may also be purchased from the Commission's copy contractor, Best Copy and Printing, Inc. (BCPI) located in Room CY-B402, 445 12th Street, SW., Washington, DC 20554. Customers may contact BCPI at their Web site: http://www.bcpiweb.com or call 1-800-378-3160.

Summary

The Commission initiated a Notice of Proposed Rulemaking in this proceeding (69 FR 48118, August 9, 2004). In response to the Notice of Proposed Rulemaking, on April 29, 2005, the Commission adopted a Report and Order adopting the proposals contained in the Notice of Proposed Rulemaking. The new rules will mandate electronic filing of applications and other submissions related to the provision of international telecommunications services. Over the years, the Commission has introduced a number of electronic filing systems that a large and growing number of applicants are using to file their applications. For international services, filers submit applications and other filings via the International Bureau Filing System (IBFS). In the Report and Order, the Commission required all filings related to international telecommunications services to be submitted via the IBFS.

The mandatory filing requirements will be implemented in stages as new forms are developed for IBFS. This phased-in implementation will allow for the development of additional forms consistent with the rules. The Commission adopted a sixty-day transition period to allow applicants and carriers time to adjust to the new filing requirements. The sixty-day transition period will begin on the effective date of the new rules and will apply to those applications for which electronic forms are currently available. Thereafter, the International Bureau will issue public notices announcing the availability of new forms and the effective date of the electronic filing requirement. At the end of the sixty-day transition period, the Commission will no longer accept filings in a manual format, and the filings will be returned to the applicant without processing.

The Report and Order concluded that mandatory electronic filing will allow applicants to make international filings more rapidly and efficiently. In addition, it will improve the speed and efficiency of application processing, and expedite the availability of the application information for public use and inspection. Also, the Commission concluded that electronic filing would not impose any undue burdens on parties.

The Commission will continue with its policies for the confidential treatment of certain materials. Currently, IBFS does not accommodate confidential filings, but the Commission intends to develop the capability of IBFS to accommodate confidentially filed pleadings and applications.

Procedural Matters

Final Regulatory Flexibility Certification

The Regulatory Flexibility Act of 1980, as amended (RFA), requires that a regulatory flexibility analysis be prepared for any rule making proceeding that requires notice-and-comment, unless the agency certifies that the “rule will not, if promulgated, have a significant economic impact on a substantial number of small entities.” (See 5 U.S.C. 601-612, has been amended by the Small Business Regulatory Enforcement Fairness Act of 1996 (SBREFA), Public Law 104-121, Title II, 110 Stat. 857 (1996).) The RFA generally defines the term “small entity” as having the same meaning as the terms “small business,” “small organization,” and “small governmental jurisdiction.” The term “small business” has the same meaning as the term “small business concern” under the Small Business Act. A “small business concern” is one which: (1) Is independently owned and operated; (2) is not dominant in its field of operation; and (3) satisfies any additional criteria established by the Small Business Administration (SBA).

Pursuant to the RFA, the Commission incorporated an Initial Regulatory Flexibility Certification into the Notice of Proposed Rulemaking in the Certification. The Commission tentatively concluded that the proposals contained in the Notice of Proposed Rulemaking were in the public interest and would not impose undue burdens on carriers, small or large. Further, any burdens caused by mandating electronic filing would be offset by the fact that services to the public would likely be expedited. We received no comments on the Notice of Proposed Rulemaking or the Initial Regulatory Flexibility Certification.

In the Report and Order, the Commission adopted mandatory electronic filing for applications and other filings associated with international telecommunications services. Mandatory electronic filing is in the public interest and will not impose undue burdens on a significant number of small entities that are now required to file for international telecommunications services. Further, the processing of these filings will be expedited by mandatory electronic filing.

We certify that the requirements of the Report and Order will not have a significant economic impact on a substantial number of entities.

Report to Congress: The Commission will send a copy of the Order, including a copy of the Final Regulatory Flexibility Certification, in a report to Congress. In addition, the Commission will send a copy of the Order, including a copy of the Final Regulatory Flexibility Certification, to the Chief Counsel for Advocacy of the SBA. A copy of the Order and Final Regulatory Flexibility Certification will also be published in the Federal Register.

Paperwork Reduction Act Analysis

This Report and Order contains either new or modified information collections subject to the Paperwork Reduction Act of 1995 (PRA), Public Law 104-13. It has been submitted to the Office of Management and Budget (OMB) for review under section 3507(d) of the PRA. OMB, the general public, and other Federal agencies are invited to comment on the modified information collection contained in this proceeding. (See 69 FR 48188, August 9, 2004) In addition, we note that pursuant to the Small Business Paperwork Relief Act of 2002, Public Law 107-198, (see 44 U.S.C. 3506 (c)(4)), the Commission previously sought specific comment on how the Commission might “further reduce the information collection burden for small business concerns with fewer than 25 employees.”

In the Report and Order, we assessed the effects of mandatory electronic filing of all applications and other filings related to international services. Mandatory electronic filing will allow all applicants, including small entities, to make filings more rapidly and efficiently. The Report and Order also provides for a transition period that will allow all applicants and carriers to adjust to the new rules. Finally, the Report and Order permits an applicant to seek a waiver of the rules in the limited instances where electronic filing may be burdensome.

All comments regarding the requests for approval of the information collection should be submitted to Judith B. Herman, Federal Communications Commission, Room 1-C804, 445 12th Street, SW., Washington, DC 20554, or via the Internet to Judith-B.Herman@fcc.gov; phone 202-418-0214.

Ordering Clauses

It is ordered that, pursuant to sections 1, 4(i)-4(j), 201-205, 211, 214, 219-220, 303(r), 309 and 403 of the Communications Act of 1934, as amended, 47 U.S.C. 151, 154(i)-154(j), 201-205, 211, 214, 219-220, 303(r), 309, 403, the policies, rules and requirements discussed herein are adopted and parts 1, 63, and 64 of the Commission's rules, 47 CFR 1, 63, and 64 are amended.

It is further ordered that the Commission's Consumer and Governmental Affairs Bureau, Reference Information Center, shall send a copy of this Report and Order, including the Final Regulatory Flexibility Certification, to the Chief Counsel for Advocacy of the Small Business Administration in accordance with section 603(a) of the Regulatory Flexibility Act, 5 U.S.C. 601 et seq.

It is further ordered that the policies, rules and requirements established in this decision shall take effect August 5, 2005 except for those policies, rules and requirements which contain information requirements that have not yet been approved by the Office of Management and Budget (OMB).

List of Subjects in 47 CFR Parts 1, 63, and 64

Communications common carriers, Reporting and recordkeeping requirements, Telecommunications.

Federal Communications Commission.
Marlene H. Dortch,
Secretary.

Rule Changes

For the reasons discussed in the preamble, the Federal Communications Commission proposes to amend 47 CFR parts 1, 63, and 64 as follows:

PART 1—PRACTICE AND PROCEDURE

1. The authority citation for part 1 continues to read as follows:

Authority: 15 U.S.C. 79 et seq; 47 U.S.C. 151, 154(i), 154(j), 155, 157, 225, and 303(r).

2. Section 1.767 is amended by revising paragraphs (a) introductory text, (a)(11)(iii), (g)(7), (g)(14), (j), and adding paragraph (n) to read as follows:

§ 1.767 Cable landing licenses.

(a) Applications for cable landing licenses under 47 U.S.C. 34-39 and Executive Order No. 10530, dated May 10, 1954, should be filed in accordance with the provisions of that Executive Order. These applications should contain:

* * * * *

(11) * * *

(iii) An assignee or transferee must notify the Commission no later than thirty (30) days after either consummation of the assignment or transfer or a decision not to consummate the assignment or transfer. The notification shall identify the file numbers under which the initial license and the authorization of the assignment or transfer were granted.

* * * * *

(g) * * *

(7) A pro forma assignee or person or company that is the subject of a pro forma transfer of control of a cable landing license is not required to seek prior approval for the pro forma transaction. A pro forma assignee or person or company that is the subject of a pro forma transfer of control must notify the Commission no later than thirty (30) days after the assignment or transfer of control is consummated. The notification must certify that the assignment or transfer of control was pro forma, as defined in § 63.24 of this chapter, and, together with all previous pro forma transactions, does not result in a change of the licensee's ultimate control. The licensee may file a single notification for an assignment or transfer of control of multiple licenses issued in the name of the licensee if each license is identified by the file number under which it was granted;

* * * * *

(14) The licensee must notify the Commission within thirty (30) days of the date the cable is placed into service. The cable landing license shall expire twenty-five (25) years from the in-service date, unless renewed or extended upon proper application. Upon expiration, all rights granted under the license shall be terminated.

* * * * *

(j) Applications for streamlining. Each applicant seeking to use the streamlined grant procedure specified in paragraph (i) of this section shall request streamlined processing in its application. Applications for streamlined processing shall include the information and certifications required by paragraph (k) of this section. On the date of filing with the Commission, the applicant shall also send a complete copy of the application, or any major amendments or other material filings regarding the application, to: U.S. Coordinator, EB/CIP, U.S. Department of State, 2201 C Street, NW., Washington, DC 20520-5818; Office of Chief Counsel/NTIA, U.S. Department of Commerce, 14th St. and Constitution Ave., NW., Washington, DC 20230; and Defense Information Systems Agency, Code RGC, 701 S. Courthouse Road, Arlington, Va. 22204, and shall certify such service on a service list attached to the application or other filing.

* * * * *

(n) Subject to the availability of electronic forms, all applications and notifications described in this section must be filed electronically through the International Bureau Filing System (IBFS). A list of forms that are available for electronic filing can be found on the IBFS homepage. For information on electronic filing requirements, see part 1, §§ 1.1000 through 1.10018 and the IBFS homepage at http://www.fcc.gov/ibfs. See also §§ 63.20 and 63.53 of this chapter.

* * * * *

3. Section 1.768 is amended by revising paragraphs (h) and (i) and adding a new paragraph (j) to read as follows:

§ 1.768 Notification by and prior approval for submarine cable landing licensees that are or propose to become affiliated with a foreign carrier.

* * * * *

(h) All licensees are responsible for the continuing accuracy of information provided pursuant to this section for a period of forty-five (45) days after filing. During this period if the information furnished is no longer accurate, the licensee shall as promptly as possible, and in any event within ten (10) days, unless good cause is shown, file with the Commission a corrected notification referencing the FCC file numbers under which the original notification was provided.

(i) A licensee that files a prior notification pursuant to paragraph (a) of this section may request confidential treatment of its filing, pursuant to § 0.459 of this chapter, for the first twenty (20) days after filing.

(j) Subject to the availability of electronic forms, all notifications described in this section must be filed electronically through the International Bureau Filing System (IBFS). A list of forms that are available for electronic filing can be found on the IBFS homepage. For information on electronic filing requirements, see part 1, §§ 1.1000 through 1.10018 and the IBFS homepage at http://www.fcc.gov/ibfs. See also §§ 63.20 and 63.53.

* * * * *

4. Section 1.10006 is revised to read as follows:

§ 1.10006 Is electronic filing mandatory?

Electronic filing is mandatory for all applications for international and satellite services for which an International Bureau Filing System (IBFS) form is available. Applications for which an electronic form is not available must be filed by paper until new forms are introduced. See §§ 63.20 and 63.53. As each new IBFS form becomes available for electronic filing, the Commission will issue a public notice announcing the availability of the new form and the effective date of mandatory filing for this particular type of filing. As each new form becomes effective, manual filings will not be accepted by the Commission and the filings will be returned to the applicant without processing. Mandatory electronic filing requirements for applications for international and satellite services are set forth in parts 1, 25, 63, and 64 of this chapter. A list of forms that are available for electronic filing can be found on the IBFS homepage. For information on electronic filing requirements, see part 1, §§ 1.1000 through 1.10018 and the IBFS homepage at http://www.fcc.gov/ibfs.

5. Section 1.10007 is amended by removing paragraph (a), redesignating paragraphs (b) through (d) as paragraphs (a) through paragraph (c), and by revising newly resdesignated paragraph (a) to read as follows:

§ 1.10007 What applications must be filed electronically?

(a) For a complete list of applications or notifications that must be filed electronically, see the IBFS Web site at http://www.fcc.gov/ibfs.

* * * * *

PART 63—EXTENSION OF LINES, NEW LINES AND DISCONTINUANCE, REDUCTION, OUTAGE AND IMPAIRMENT OF SERVICE BY COMMON CARRIERS; AND GRANTS OF RECOGNIZED PRIVATE OPERATING AGENCY STATUS

6. The authority citation for part 63 continues to read as follows:

Authority: Sections 1, 4(i), 4(j), 10, 11, 201-205, 214, 218, 403 and 651 of the Communications Act of 1934, as amended, 47 U.S.C. 151, 154(i), 154(j), 160, 201-205, 214, 218, 403, and 571, unless otherwise noted.

6a. Section 63.11 is amended by removing paragraph (g), redesignating paragraphs (h) through (j) as paragraphs (g) through (i) and by revising newly redesignated paragraphs (h) through (i) and by adding new paragraph (j) to read as follows:

§ 63.11 Notification by and prior approval for U.S. international carriers that are or propose to become affiliated with a foreign carrier.

* * * * *

(h) All authorized carriers are responsible for the continuing accuracy of information provided pursuant to this section for a period of forty-five (45) days after filing. During this period if the information furnished is no longer accurate, the authorized carrier shall as promptly as possible, and in any event within ten (10) days, unless good cause is shown, file with the Commission a corrected notification referencing the FCC file numbers under which the original notification was provided, except that the carrier shall immediately inform the Commission, if at any time, not limited to the forty-five (45) days, the representations in the “special concessions” certification provided under paragraph (e)(6) of this section or § 63.18(n) are no longer true. See § 63.18(n).

(i) A carrier that files a prior notification pursuant to paragraph (a) of this section may request confidential treatment of its filing, pursuant to § 0.459 of this chapter, for the first twenty (20) days after filing.

(j) Subject to the availability of electronic forms, notifications described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20 and 63.53.

7. Section 63.18 is amended by revising the introductory text and adding paragraph (q) to read as follows:

§ 63.18 Contents of applications for international common carriers.

Except as otherwise provided in this part, any party seeking authority pursuant to Section 214 of the Communications Act of 1934, as amended, to construct a new line, or acquire or operate any line, or engage in transmission over or by means of such additional line for the provision of common carrier communications services between the United States, its territories or possessions, and a foreign point shall request such authority by formal application. The application shall include information demonstrating how the grant of the application will serve the public interest, convenience, and necessity. Such demonstration shall consist of the following information, as applicable:

* * * * *

(q) Subject to the availability of electronic forms, all applications described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20 and 63.53.

8. Section 63.19 is amended by adding paragraph (d) to read as follows:

§ 63.19 Special procedures for discontinuances of international services.

* * * * *

(d) Subject to the availability of electronic forms, all filings described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20 and 63.53.

9. Section 63.20 is amended by revising the section heading and paragraph (a) to read as follows:

§ 63.20 Electronic filing, copies required; fees; and filing periods for international service providers.

(a) Subject to the availability of electronic forms, all filings described in this section must be filed electronically through the International Bureau Filing System (IBFS). A list of forms that are available for electronic filing can be found on the IBFS homepage. For information on electronic filing requirements, see part 1, §§ 1.1000 through 1.10018 of this chapter and the IBFS homepage at http://www.fcc.gov/ibfs. Each application shall be accompanied by the fee prescribed in subpart G of part 1 of this chapter. For applications filed electronically it is not necessary to send the original or any copies with the fee payment. For applications and other filings that are not submitted electronically, an original and five (5) copies of the submission must be filed with the Commission. Upon request by the Commission, additional copies shall be furnished.

* * * * *

10. Section 63.21 is amended by revising paragraphs (a), (h), (i) and adding paragraph (j) to read as follows:

§ 63.21 Conditions applicable to all international Section 214 authorizations.

* * * * *

(a) Each carrier is responsible for the continuing accuracy of the certifications made in its application. Whenever the substance of any such certification is no longer accurate, the carrier shall as promptly as possible and, in any event, within thirty (30) days, file with the Commission a corrected certification referencing the FCC file number under which the original certification was provided. The information may be used by the Commission to determine whether a change in regulatory status may be warranted under § 63.10. See also § 63.11.

* * * * *

(h) Subject to the requirement of § 63.10 that a carrier regulated as dominant along a route must provide service as an entity that is separate from its foreign carrier affiliate, and subject to any other structural-separation requirement in Commission regulations, an authorized carrier may provide service through any wholly owned direct or indirect subsidiaries. The carrier must, within thirty (30) days after the subsidiary begins providing service, file with the Commission a notification referencing the authorized carrier's name and the FCC file numbers under which the carrier's authorizations were granted and identifying the subsidiary's name and place of legal organization. This provision shall not be construed to authorize the provision of service by any entity barred by statute or regulation from itself holding an authorization or providing service.

(i) An authorized carrier, or a subsidiary operating pursuant to paragraph (h) of this section, that changes its name (including the name under which it is doing business) must notify the Commission within thirty (30) days of the name change. Such notification shall reference the FCC file numbers under which the carrier's authorizations were granted.

(j) Subject to the availability of electronic forms, all notifications and other filings described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20 and 63.53.

11. Section 63.24 is amended by revising paragraphs (e)(4), (f)(2), and (f)(3) and adding paragraph (h) to read as follows:

§ 63.24 Assignments and transfers of control.

* * * * *

(e) * * *

(4) An assignee or transferee must notify the Commission no later than thirty (30) days after either consummation of the proposed assignment or transfer of control, or a decision not to consummate the proposed assignment or transfer of control. The notification shall identify the file numbers under which the initial authorization and the authorization of the assignment or transfer of control were granted.

(f) * * *

(2) A pro forma assignee or a carrier that is subject to a pro forma transfer of control must file a notification with the Commission no later than thirty (30) days after the assignment or transfer is completed. The notification must contain the following:

* * * * *

(3) A single notification may be filed for an assignment or transfer of control of more than one authorization if each authorization is identified by the file number under which it was granted.

* * * * *

(h) Subject to the availability of electronic forms, all applications and notifications described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20 and 63.53.

12. Section 63.25 is amended by revising paragraphs (b), (c) introductory text, (d)(2) and adding paragraph (e) to read as follows:

§ 63.25 Special provisions relating to temporary or emergency service by international carriers.

* * * * *

(b) Applicants seeking immediate authorization to provide temporary service or emergency service must file their request with the Commission. Requests must set forth why such immediate authority is required; the nature of the emergency; the type of facilities proposed to be used; the route kilometers thereof; the terminal communities to be served, and airline kilometers between such communities; how these points are currently being served by the applicant or other carriers; the need for the proposed service; the cost involved, including any rentals, the date on which the service is to begin, and where known, the date or approximate date on which the service to is terminate.

(c) Without regard to the other requirements of this part, and by application setting forth the need therefore, any carrier may request continuing authority, subject to termination by the Commission at any time upon ten (10) days' notice to the carrier, to provide temporary or emergency service by the construction or installation of facilities where the estimated construction, installation, and acquisition costs do not exceed $35,000 or an annual rental of not more than $7,000 provided that such project does not involve a major action under the Commission's environmental rules. (See subpart I of part 1 of this chapter.) Any carrier to which continuing authority has been granted under this paragraph shall, not later than the 30th day following the end of each 6-month period covered by such authority, file with the Commission a statement making reference to this paragraph and setting forth, with respect to each project (construction, installation, lease, including any renewals thereof), which was commenced or, in the case of leases, entered into under such authority, and renewal or renewals thereof which were in continuous effect for a period of more than one week, the following information:

* * * * *

(d) * * *

(2) Such request shall make reference to this paragraph and set forth the points between which applicant desires to operate facilities of other carriers and the nature of the traffic to be handled.

* * * * *

(e) Subject to the availability of electronic forms, all applications and notifications described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20 and 63.53.

13. Section 63.51 is amended by revising paragraph (c) to read as follows:

§ 63.51 Additional Information.

* * * * *

(c) Any additional information which the Commission may require must be submitted in the same manner as was the original filing. For information on filing requirements, see part 1, §§ 1.1000 through 1.10018 of this chapter and the IBFS homepage at http://www.fcc.gov/ibfs, and § 63.20.

14. Section 63.53 is amended by revising paragraphs (a)(1), (a)(2) and paragraph (b) to read as follows:

§ 63.53 Form.

(a)(1) Applications for international service under section 214 of the Communications Act must be filed electronically with the Commission. For applications filed electronically it is not necessary to send the original or any copies with the fee payment. Subject to the availability of electronic forms, all applications and other filings described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20.

(2) Applications for international service under section 214 of the Communications Act that are not filed through IBFS shall be submitted on paper not more than 21.6 cm (8.5 in) wide and not more than 35.6 cm (14 in) long with a left-hand margin of 4 cm (1.5 in). This requirement shall not apply to original documents, or admissible copies thereof, offered as exhibits or to specially prepared exhibits. The impression shall be on one side of the paper only and shall be double-spaced, except that long quotations shall be single-spaced and indented. All papers, except charts and maps, shall be typewritten or prepared by mechanical processing methods, other than letter press, or printed. The foregoing shall not apply to official publications. All copies must be clearly legible.

(b) Applications for domestic authorizations under section 214 of the Communications Act shall be submitted on paper not more than 21.6 cm (8.5 in) wide and not more than 35.6 cm (14 in) long with a left-hand margin of 4 cm (1.5 in). This requirement shall not apply to original documents, or admissible copies thereof, offered as exhibits or to specially prepared exhibits. The impression shall be on one side of the paper only and shall be double-spaced, except that long quotations shall be single-spaced and indented. All papers, except charts and maps, shall be typewritten or prepared by mechanical processing methods, other than letter press, or printed. The foregoing shall not apply to official publications. All copies must be clearly legible.

* * * * *

15. Section 63.701 is amended by revising the introductory text and adding paragraph (j) to read as follows:

§ 63.701 Contents of Application.

Except as otherwise provided in this part, any party requesting designation as a recognized operating agency within the meaning of the International Telecommunication Convention shall file a request for such designation with the Commission. A request for designation as a recognized operating agency within the meaning of the International Telecommunication Convention shall include a statement of the nature of the services to be provided and a statement that the party is aware that it is obligated under Article 6 of the ITU Constitution to obey the mandatory provisions thereof, and all regulations promulgated thereunder, and a pledge that it will engage in no conduct or operations that contravene such mandatory provisions and that it will otherwise obey the Convention and regulations in all respects. The party must also include a statement that it is aware that failure to comply will result in an order from the Federal Communications Commission to cease and desist from future violations of an ITU regulation and may result in revocation of its recognized operating agency status by the United States Department of State. Such statement must include the following information where applicable:

* * * * *

(j) Subject to the availability of electronic forms, all filings described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20 and 63.53.

PART 64—MISCLLANEOUS RULES RELATING TO COMMON CARRIERS

16. The authority citation for part 64 continues to read as follows:

Authority: 47 U.S.C. 154, 254(k); secs. 403(b)(2)(B), (c), Public Law 104-104, 110 Stat. 56. Interpret or apply 47 U.S.C. 201, 218, 222, 225, 226, 228, and 254(k) unless otherwise noted.

16a. Section 64.1001 is amended by revising paragraph (a) and adding paragraph (f) to read as follows:

§ 64.1001 Requests to modify international settlement arrangements.

(a) The procedures set forth in this rule apply to carriers that are required to file with the International Bureau, pursuant to § 43.51(e) of this chapter, requests to modify international settlement arrangements. Any operating agreement or amendment for which a modification request is required to be filed cannot become effective until the modification request has been granted under paragraph (e) of this section.

* * * * *

(f) Subject to the availability of electronic forms, all modifications and related submissions described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20 and 63.53.

17. Section 64.1002 is amended by revising paragraph (c) and adding paragraph (e) to read as follows:

§ 64.1002 International settlements policy.

* * * * *

(c) A carrier that seeks to add a U.S. international route to the list of routes that are exempt from the international settlements policy must make its request to the International Bureau, accompanied by a showing that a U.S. carrier has entered into a benchmark-compliant settlement rate agreement with a foreign carrier that possesses market power in the country at the foreign end of the U.S. international route that is the subject of the request. The required showing shall consist of an effective accounting rate modification, filed pursuant to § 64.1001, that includes a settlement rate that is at or below the Commission's benchmark settlement rate adopted for that country in IB Docket No. 96-261, Report and Order, 12 FCC Rcd 19,806, 62 FR 45758, Aug. 29, 1997, available on the International Bureau's World Wide Web site at http://www.fcc.gov/ib.

* * * * *

(e) Subject to the availability of electronic forms, all filings described in this section must be filed electronically through the International Bureau Filing System (IBFS). A list of forms that are available for electronic filing can be found on the IBFS homepage. For information on electronic filing requirements, see part 1, §§ 1.1000 through 1.10018 of this chapter and the IBFS homepage at http://www.fcc.gov/ibfs. See also §§ 63.20 and 63.53.

* * * * *

[FR Doc. 05-12937 Filed 7-5-05; 8:45 am]

BILLING CODE 6712-01-P